DEPARTMENT OF AGRICULTURE

Forest Service

Notice of New Fee Site; Federal Lands Recreation Enhancement Act, (Title VIII, Pub. L. 108-447)

AGENCY: Chattahoochee-Oconee National Forest, USDA Forest Service.

ACTION: Notice of New Fee Site.

SUMMARY: The Chattahoochee-Oconee National Forests' Oconee Ranger District will begin charging a $5.00 daily special recreation permit trail fee at the Town Creek—Roberts Bike Camp Off Highway Vehicle (OHV) trail system. Construction of the site was completed in 2005. This new OHV trailhead replaces an existing trailhead that was moved a quarter mile to protect environmental and archaeological sites. The new trailhead will facilitate continued OHV use on the existing 16 mile loop designated trail system. Funds collected will be used for the continued safe operation and maintenance of the OHV trail system and trailhead.

DATES: Town Creek—Roberts Bike Camp OHV Special Recreation Permit fee would be collected immediately once authorization is approved.

ADDRESSES: Forest Supervisor, Chattahoochee-Oconee National Forests, 1755 Cleveland Highway, Gainesville, GA 30501.

FOR FURTHER INFORMATION CONTACT: Carolyn Hoffmann, Recreation Fee Coordinator, 770-297-3030.

SUPPLEMENTARY INFORMATION: The Federal Recreation Lands Enhancement Act (Title VII, Pub. L. 108-447) directed the Secretary of Agriculture to publish a six month advance notice in the Federal Register whenever new recreation fee areas are established. The Chattahoochee-Oconee National Forests' Oconee Ranger District has only one designated OHV trail with two designated trailheads accessing a 16 mile loop trail. A $5 daily special recreation permit fee is required for each operator accessing the trail system. Recreation surveys and public involvement have shown that people desire to have this sort of recreation experience on the Oconee Ranger District. Current fee collections and user comments indicate that the current fee is both reasonable and acceptable for this sort of unique recreation experience. Town Creek—Roberts Bike Camp OHV trailhead and trail will offer a 16 mile loop trail experience and accessible facilities such as a vault toilet, loading ramp, designated parking, picnic tables, trash receptacles, bulletin board, and an interpretive board. Reservations are not accepted, use is on a first come, first served basis.

Dated: December 20, 2005.
Larry M. Luckett,
Acting Forest Supervisor.

[FR Doc. 05-24500 Filed 12-23-05; 8:45 am]

BILLING CODE 3410-11-M